DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending June 30, 2015. For purposes of this listing, long-term residents, as defined in section 877(e)(2), are treated as if they were citizens of the United States who lost citizenship.

Last name | First name | Middle name/initials
ABDULLA | ABDULAZIZ | HUSSAIN
ABELL | SUSANNE | M
ABULQASSIM | TARIQ | SAADALDIN
AGOZZINO | GIANLUCA | LEO
ALAMEDDINE | LEILA | S
ALDEN | HEATHER | ANJA
ALMUBARAK | YAZEED | FAHAD
AL-RAHIM | KHALIDA
AL-RAHIM | MEHDI
ALWANY | IMTIYAZ | RASHID
ASH | DAVID
ASH | HEDWIGE | GUSTAAF
AUSTIN | CAROL
BADER | LARS | ERNEST
BADGER | CAROL | ANN TREMBLAY
BALDASSARRA | ELISE | SOPHIE
BAN | CHRISTOPHER | VALLEY
BANFI | LUISA | JEAN LILO
BANKS | DAVID | ALEXANDER
BASSIL | IAN | RAYMOND
BATTERJEE | RANA
BEETH | ERIC | GUNNAR
BEN-TOV | RACHEL | CHAYA
BER | DAVID | ALLAN
BERLY | MARTINE | MICHELE
BERNARD | DIRK | ROBERT
BERTHIAUME | GEORGES | JOSEPH PAUL
BERTSCH | TODD | LUKE
BING-DONS | GETRUDE | GUNDELINDE
BIRNBAUM | ZVI
BLACKHURST | JENNIFER | MAY
BLACKWELL | CAROLYN
BOBROUSKY | ROBERT
BODDEN | KARYN | DENISE
BOETTGER | MARILYN | DIANE
BORSOOK | LISA | ANNE
BOUCHARD | DANIEL | JOSEPH ARTHUR
BOUCHARD | MARY | VERONICA GRACE
BOVYN | VANESSA | TARA
BOYNTON | ERIN | LYNN
BRANDT | CEDRIC | PIERRE FRANCOIS
BRIGGS | HILARY | BONNIE
BUCHANAN | PETRA | S
BURKE | RONNIE | EDDIE
BUTAO | TERESITA | C
CABALLERO | ANA | MARIA
CAIN | EMILY | JEAN MACAULAY SMITH
CALIXTE | PATRICIA
CARRIERE | DELANEY | ARLETA JEAN
CARTER | LAURA | LEE
CASPI | OREN | YEHONATAN
CETTO | ELLEN | RITA
CETTO | NARC | FREDERIC
CHAN | CHI | KWONG
CHAN | CHU | HOI
CHAN | COLIN | CHIU LOI
CHANG | SHENG | CHO
CHAOUL | HENRI | JOSEPH
CHEDID | HENRY | JOSEPH
CHIARELLI | SUSAN | CAROL
COEL | CRAIG | MATTHEW
COLLINS-AIELLO | KRISTEN | MARIA
COLLISON | BETTY | CHRISTINE
CONWAY | KATHLEEN | TERESA
COUMANS | CHRISTIAN | J
COURNOYER | ALEXANDRA
CROSBY | RENE | BERNARD
CUMMINS | DANIELA | CECILIA
DANTIL | JEAN-PAUL | CARLOS
DAVIS | ANDREW | JOSEPH
DAVIS | ANDREW | JOSEPH
DAY | CHARLES | DALE
DE ALMEIDA | ANDRE | JUACABA
DE GHELCKE | GEOFFROY | JACQUES J HYNDERICK
DE GRAAF | ANTONIE | ALBERT
DE MEILLAC | JEAN-PAUL
DE MYTTENAERE | MATHIEU | PAUL-JEAN
DEDEYSTERE | JACQUELINE | DIANE
DEMARCO-WOGSTAD | PAUL | J
DEVLIN | ALIX | ROCHELLE
DEVOS | DAMIEN | JAN
DHANOA | JAGDEEP | SINGH
DHANOA | SUMAN | SANDHU
DO | MONICA
DO | THUC | HOA
DONALD | MICHAEL | DAVID
DONOHOE | DESMOND | T
DORN-FREEBORN | RUTH | ANNE
DOUMONT | ISABELLE | CLAIRE
DUCHARME | BLAKE | EDWARD
DUNN | FRANCIS | X
DUNN | HEIDI | LOUISE
DUPONT | CHRISTINE
DVORIN | EDWARD | VOROD
DVORIN | VOLODYMYR | VOLOD
DVORINA | TETYANA
EGERTON | VICTORIA | NOLAND CARTER
ELLIS | NADIA | S
ELROD | CARA | CURTICE
ENGELSMAN | ALEX | TAYLOR
EVANS | KATHRYN | MARIE
FAN | HUA
FARR | SARAH | CATHERINE
FAWAZ | NAJWA | FOUAD
FAWAZ | TAREK | ASSAD
FELDMAN | ERIC | DAVID
FELIZ-LIF | JEAN | MICHAEL
FERBER | MARILYN
FERRABEE | DIANE | ELIZABETH
FERREIRA DA COSTA | ANA | CRISTINA
FERREYROS | JOSE | ANTONIO
FINKELSTEIN | DANIEL
FIORENZA | NICHOLAS | SALVATORE
FLECKENSTEIN | EMILIA
FLEMING | ANNE | VICTORIA
FORTIN | ANDRE | JOSEPH
FOSTER | JUANA | CAMARGO
FOURNIER | IAN | MATTHEW
FRANCO | JULIANA | GOBELLO
FRENKEL | GAL
FRIDDELL | DAVID | JAMES
FRIDDELL | JULIE | ELIZABETH
FROM | WESLEY | DANIEL
GAN | RAMAT
GARLOCK | GEOFFREY | ADAM
GAVIN | FRANCIS | XAVIER
GAXOTTE | JUSTINE | SOFIE
GEMMA | MARIA | PIA
GEORGE | PETER | GERARD
GERBER-PAULS | PATRICIA | LYNN
GIBSON | TIMOTHY | MICHAEL
GIESBERT | PETRA
GILKINSON | NORMA | ARLENE
GLOGER | ALEXANDER | WOLFGANG
GOES | GUSTAVE | W
GOLINSKI | PETER | KERVYN
GONSALVES | CAMILLO | MICHAEL
GOTTLIEB | ARYEH | LEIB
GOURBIERE | DAMIEN
GRANOFSKY | RONALD
GRAY | MANDY | C
GREEN | JOHN | PHILIP
GRESS | MICHAEL
GROSSMAN | JEFFREY
HABIB | GEORGE | ABI
HAFFTER | PATRICK | CHRISTOPH FELIX
HAND | LESLIE | ALLAN
HANNA | SAMEH
HANSON | AMANDA | GEORGINNE
HARDING | DAVID | JAMES
HARRIS | JANET | ELLEN
HART | KEVIN | CURTIS
HEER | ALFRED
HENSEN | JONATHAN | CHRISTOPHER
HERRERO | STEPHEN | MATTHEW
HERZ | MARC
HICK | WILLIAM | BERNARD MARTIN
HICKEY | CLAYTON | ALEXIS
HILL | CHRISTA | MICHELLE
HINDLEY | MARJORIE | ESTHER
HIRANO | AKIKO
HIRSCHFELD | DAVID
HIRSCHFELD | DENISE
HUEBNER | MONIKA | CHRISTINA
HULL | DAVID | EDWARD
HUNG | SHAO-HSIEN
HUNZIKER | ROGER | F
HUYGHE | NICOLAS | L
IGOU | RENATE
IM | CHANG | HAN
INDERBITZIN | JOELLE | DESIREE
INEICHEN | ADRIAN | ORLANDO
INGLIS | CATHERINE | ANN
INNES | CLIFFORD | ALEXANDER
IRWIN | ANNE | OLIVIA
JAEGER | HELENE | JULIA
JENSEN | THOMAS | ARMSTRONG
JOBERT | JEAN | MARC
JOLICOEUR | DANIELLE | YVONNE
JONES | LARRY | D
JOUDI | TONY | SALIM
JUD | MARIA | ALEXANDRA
JULIHN | DERIAN | SHAWN
JURICEK | ARIANNE
KADRNKA | ANDREA | DAWN
KAEGI | ELISE | REEN
KAHANA | SHULAMITH
KALB | JANNIE
KALISH | HANAN
KARADIMAS | DEMETRIOS
KASSATLY | GEORGE | MICHAEL
KATNICK | MIRA | JOANNE
KAWASH | FAWZI | AHMAD
KEBAILI | DJILANI | JAMES
KEESIC | GORDON | JAMES
KELDAY | BARBARA | MARILYN
KELDAY | ERIC | MACKENZIE
KELLER | ANDREAS
KELLY | DEREK | CLAUDE
KENNEDY | ANDREW | MICHAEL
KENNEDY | JOHN | ERIN
KENNY | MARY | MARGUERITE
KENNY | NANCY | CAROLINE
KERBY | DEBRA | DEEN
KEREN-KREMER | ADI
KHAN | JAVED | SAIFULLAH
KHOURY | RAYMOND | GABRIEL
KIM | HYUNG | AH
KIM | KYUNG MIN | CHRISTINA
KIRJAN | NANCY | JOAN DUNLOP
KISSINGER | TIARA | LEANNE
KNOTTENBELT | FLORIS | P
KNOX | CHERIE | LYNN
KOCH | CHRISTOPHER | PETER
KOEHLY | ANDREW | PAUL
KOESLING | CLAUDIA
KOLARIK | NANCY | DIANE JENNIFER ELLEN
KOURY | KAREN | LOUISE
KRAHN | DEBORAH | JEAN
KRIPPENDORF | CHARLES | MAGNUS
KRIPPENDORF | PIERRE | PAUL
KRISTOF | INES | ARIANE MICHELI
KUBBA | LEILA | CAMENZIND
KUMMER | URS | PETER
KUSTER | ROBERT | SEMIR
LA MANTIA | GLORIA
LANCIAUX | CONCETTA | CARESTIA
LARROQUE-LABORDE | HELENE | SOPHIE
LAST | SEAN | ANTHONY
LAUBACHER | DANIEL | JOSEPH
LAUNER | STEFAN | ALEXANDER
LE HODEY | PIERRE-GUILLAUME | PATRICK
LEA-TUCKER | MYRIAH
LEGGETT | MATTHEW | LENARD
LEMIEUX | PATRICIA | CAMPION
LERNER | GUY | ISSAAC
LEUENBERGER | NICOLAS | ANDRI
LEVACK | JOAN | SHARON LANGEVIN
LIDSTER | TIMOTHY | PETER
LIEBEN-SEUTTER | THERESITA | MARIE
LIM | REBECCA | BEE KUAN
LIN | JANE | HSIN-YI
LIN | JOHN | JENHO
LINDNER | JAN-JOOST | FREDERICK
LOCK | DAVID | ANTHONY
LOVE | ELIZABETH | FRANCES RAND
LUETHI | CHRISTOPHER | LEE
LUNDY | ANTONY
LYNCH | TYRONE | SHAUNESSY
LYTTON COBBOLD | HARRY | F
MA | HSIN-KAI
MACDONALD | JOHN | BARCLAY
MADER | REGULA | MARIE
MADER | ROLF | ALBERT
MAHANTY | MARK | MAHENDRA
MALAMA | JADON | DAVID
MALINVAUD | JEAN-GUILLAUME
MARCHETTI | MICHAEL | FRANK
MARHIN | WILSON | WENDELL
MARKGRAF | DARCEL | MEREDITH
MARKOWITZ | PATRICIA | KAY
MARTIN | PHILIPPE | GEORGES
MARTINO | KATJA
MATHERLY | CAROLYN | NICOLE
MAURY | JOHN | BLYTHE SAVAGE
MCCRACKEN | MARTIN | LEWIS
MCCRACKEN | MARTIN | LYNN
MCKECHNIE | SUSAN | LAVINIA
MCSWINEY | JAMES
MEIER | PHILIP | EDWARD
MELCHIOR | ANDREAS
MERONUK | KEVIN | JOHN
MESTELMAN | LAURA | GOLDMAN
MIGNEAULT | ANNE | MARIE PELE
MIRANSKII | VLADIMIR | A
MONNEY | JULIEN | ERIC
MORALES CORDOVEZ | SANDRA | J
MORISSETTE | CATHERINE | SIMARD
MORISSETTE | OLIVER | SIMARD
MOUNTAIN | DAVID | GARRETT
MRKUSIC | SIMON | JEROME
MUELLER | LISA | A BENJAMIN
MUELLER | NATALIE | ALEXANDRA
MYERS | LINDA | MARIE
NAHHAS | FAYEZEH
NAHHAS | KHALED | NABIH
NAHHAS | MAHA | IHSAN
NAHM | DAVID | KYUNG
NELSON | CARLEY | LOUISE
NELSON | JARRETT | JEFFREY
NELSON | JEFFREY | CHARLES
NESER | CORNELIA
NICHOLAS | CHRISTIAN | ELIAS
NILSEN | ARNE | ERLAND
NIR | SHMUEL
NITSCHKE | GUENTER | G
NOVELLA | CHRISTIAN | LOUIS
NOVOSELSKAYA | VERA
NOVOSELSKIY | LEONID
NUNEZ | DAVID | CHRISTOFER
OCONNOR | WENDOLYN | LOU
O'FARRILL | PATRICK | EMILIO
O'KEEFE | CATHERINE | JO-ELLA
OSMOND | PAUL | DANIEL
OST | SABRINA | MARIHNO
OUNDJIAN | MARIANNE
OWENS | JENNIFER | KATHLEEN
PADELT | JOHANNA | MARIA
PANDO | DANIEL | WAYNE
PANDO | ROBERT | IAN
PARKAR | MADHURA
PASCHKE | ELLEN | DELORIS
PASCOUALLE | JEAN | ROBERT
PAYNE | ANDROS | KARL
PELLET | CHRISTIAN | ANDRE
PENNER | ARLIN | KEITH
PENNER | JENEE | DAWN
PEREIRA | BIANCA | CRISTINE CANTELE
PEREIRA | KRISTEL | JEANNINE
PERRON | SUZANNE
PETRE | AURELIE | CATHERINE
PETRY | CHRISTINA
PICHE | ALAIN
PIETY | MELODY | KAYE
PILLOUD | MRCO | FRANCOIS LOUIS
PITT | RAOUL | JOMO
POLUS | MIRIT | MIRIAM
POUX | MARIE-LAURE
PRICE | JANE | ELIZABETH
PRIOR | ELIZABETH | ANN
PUNTENER | IRENE | ELISABETH
PURDY | FREDERICK | BRUCE
PUSCAR | MICHAEL | ANTHONY
QIN | JIE
RABBAT | ABDUL | MAJID
RABINOWITZ | JOEL
RACH | CAROLYN | DIANE
RAITAN | FREDDY
RAJGURU | AMITA | GOPAL
REMPEL | JUSTINE | MARIE
RICHARDS | PATRICIA | SOSNA
RON | MIRIAM
ROOLF | KAI | DENNIS
ROSENBLUTH | DAVID | PETER
ROTULO | RUTH | MARIE
ROY | MICHELINE
RUBATTO | CLARA | IDA
RUDIN | SETH | BARNETT
RUETSCHI | MATTHIAS | PAUL
RUST | MATTHEW | VERNON BENJAMIN
RYMER | DIANE | EVELYN
SAAD | HALA | SUHAIL
SABISTON | JULIA | DENISE
SALIBA | GAYLEE | FOUAD
SAMMET | ARTHUR
SANDERS | KATHLEEN | HUGHES
SANO | AKIRA
SANTANA | MARIA | TORRES
SANTUCCI | BABETTE | EUDORA
Santucci | Nichols | Ernest
SARTORI | CLEMENT | ROMANO
SARTORI | PAULETTE | RENEE ELYETTE
SAUD | FAWAZ | N
SAVIR | RONY | MEIR
SAWABINI | NABIL | GEORGE
SCHERER | PETER | ARNOLD
SCHOEMAKER | PHILOMENE
SCHRADER | CHARLES | MC CLAIN
SCHREIBER | FRANK | ROGER
SCHULER-VOITH | OLIVIA | DESIREE
SCOTTER | ETTA
SEGAL | BEN
SEGHERS | ERIC | PHILIP
SEGRE | PIERGIORGIO
SELLO | SARA | SAUNDERS ORR
SHAFIR | ARYEH
SHAH | HEENA
SHAHINPOUR | ARMIN
SHAN | XIMING
SHARPE | CAROL
SHERWOOD II | EARL | VINCENT
SHIUE | KENG | CHIEH
SHOFNER | SCOTT | REGAN
SHORTER | RANGIT | DEOLO
SIDDIQUI | FIZA
SILVERMAN | MARK | JOSEPH
SILVY | FULVIO | SELDEN
SIMARD | LUCILLE
SIMON | CHRISTINE | JEANNE
SMALL | MURRAY | RICHARD
SOMERS | NICHOLAS | ROBERT KONRAD
SORKO-RAM | AYAL
SOTO | SUZANNE | BROADWAY
SPERLING | LILLIAN | CHRISTINE
STALDER | VISARA | NOON
STANTON | CATHY | ARLENE
STEFFEN | SABINE | CHARLOTTE
STEIN | MITZI | MEYEN
STRASBAUGH | LAMAR | GENE
STRINGOS | ANDREA
SUKE | JUDITH | HUNT
SULGIT | BERNADETTE | ADELE
SUMISON | PHILIPPA | JANE
SUTER | ROLAND | RICHARD
SWEENEY | BRENDA | ANN
SZCZERBAK-KONING | JENNIFER | THERESA
TAN | JENNIFER | JOY TAP
THEUER | MARGIT
TILLEY | DAVID
TOBIN | THOMAS | EDWARD
TRESTER | DARREN | CRAIG
TRIMBLE | ISABEL | FRANCES
TUCHSCHMID | TOR | ALBAN
TURGEMAN | DAVID
TURON | LLUIS | RUSCALLEDA
VAN CALOEN | CORALIE | GAETANE ANNE
VAN DER STRAETEN | PATRICIA
VAN MEERBEECK | ADRIAN
VAN WASSENAER | NICOLE | ALICE ODILIA
VANPRAET | TIJL | KAREL
VERLINI | BJANKA | LINDA
Visser | Dirk | B
VOIGTLAENDER | CHRISTIAN | BERND
VOITH | LOUIS | PHILIP SCHULER
Von Eckartsberg | Karen | Ann
VON KANER | ROLAND | MARCEL
VON MATUSCHKE | ROBERT | FRIEDRICH BUCHBERGER-GRAF
VON STECHOW | DOUGLAS | CASPAR CASIMIR
VYBIRAL | SARAH-JANE | ANITA
WAGSCHAL | ELISABETH | FERGUSON
WALDMAN | ADIR | GURION
WALTER | SUZANNE | MARIE
WANG | CHIH-HUI
WARNER | JESSICA | FINNEY
WARNEY | THOMAS | PETER
WEBSTER | ELLIS | LORENZO
WEISS | LARRY | ALAN
WHITNEY-BROWN | CAROLYN | ELIZABETH
WI | KUM | OK
WIESENBERG | IDO
WILSON | JOHN | FRANCIS
WITT | PETER | F
WOLF | STEPHAN | LORENZ
WORD | MICHAEL
WRIGHT | LAWRENCE | DOUGLAS
WU | SHELLY
WUILLAUME | LAETITIA | CAROLINE
WYCKOFF | DAVID | HOLT
XU | QI
YARALI | ALISHA
YOON | WONSOON
YOUNES | SAMIRA | GEORGES
YOUNG | DOREEN
YOUNG | NOEL
ZAHRA | RICCARDO | GIOVANNI
ZALLEN | MORRIS | RICHARD
ZANON | CARL | DAVID
ZONA | MICHAEL
ZONDLER | PATRICIA | A
ZWICKY | PATRICK | ROBERT

Dated: July 21, 2015.
Dorothy A. Harbison,
Acting Department I Manager, Examinations Operations—Philadelphia Compliance Services.

[FR Doc. 2015-18813 Filed 7-30-15; 8:45 am]

BILLING CODE 4830-01-P